DEPARTMENT OF THE INTERIOR

Bureau of Land Management

[15XL LLIDB00100 LF1000000.HT0000 LXSS020D0000 241A 4500084766]

Notice of Availability of the Draft Environmental Impact Statement for the Proposed Bruneau-Owyhee Sage-Grouse Habitat Project, Owyhee County, Idaho

AGENCY: Bureau of Land Management, Interior.

ACTION: Notice.

SUMMARY: In accordance with the National Environmental Policy Act of 1969, as amended (NEPA), the Bureau of Land Management (BLM) has prepared a Draft Environmental Impact Statement (Draft EIS) for the proposed Bruneau-Owyhee Sage-Grouse Habitat (BOSH) Project and by this notice is announcing the opening of the comment period.

DATES: To ensure comments will be considered, the BLM must receive written comments on the Bruneau-Owyhee Sage-Grouse Habitat Project Draft EIS within 45 days of this Notice of Availability being published in the Federal Register. The BLM will announce future meetings or hearings and any other public involvement activities at least 15 days in advance through public notices, media releases, and mailings.

ADDRESSES: You may submit comments related to the proposed Bruneau-Owyhee Sage-Grouse Habitat Project by any of the following methods:

• Web site: http://www.blm.gov/id/st/en/prog/nepa_register/BOSH-juniper-removal.html.

• Email: blm_id_bruneauowyheesagegrouse@blm.gov.

• Fax: 208-384-3205.

• Mail: 3948 S. Development Ave., Boise, ID 83705.

Please title your correspondence, “BOSH Project” and include “Attn: Mike McGee.” Electronic copies of the proposed Bruneau-Owyhee Sage-Grouse Habitat Project Draft EIS are available at the BLM Boise District Office at the above address; you may also view or download the Draft EIS at the Web site listed above.

FOR FURTHER INFORMATION CONTACT: Mike McGee, Project Lead/Wildlife Biologist, 3948 S. Development Ave., Boise, ID 83705; via email at blm_id_bruneauowyheesagegrouse@blm.gov; or phone (208) 384-3464. Persons who use a telecommunications device for the deaf (TDD) may call the Federal Relay Service at 1-800-877-8339 to contact Mr. McGee. The Service is available 24 hours a day, 7 days a week, to leave a message or question with Mr. McGee. You will receive a reply during normal business hours.

SUPPLEMENTARY INFORMATION: Loss of suitable sage-grouse habitat from conversion of sagebrush steppe to juniper woodlands is a major threat to Greater Sage-Grouse (Centrocercus urophasianus) in southwest Idaho. The BLM, in collaboration with other Federal and State agencies and local groups, is proposing to remove encroaching juniper in areas that would provide the greatest benefit to existing sage-grouse habitat and improve the long-term viability and persistence of sage-grouse in the BOSH project area. The purpose of the project is to restore, improve, and maintain Greater Sage-Grouse habitat at a landscape scale that is being and/or has been degraded by the encroachment of western juniper (Juniperus occidentalis) into sagebrush communities.

The proposed BOSH project boundary encompasses approximately 1.5 million acres in the BLM Owyhee and Bruneau Field Office management areas in Owyhee County, Idaho. Within the proposed project area, an approximately 600,000-acre focal treatment area has been identified based on modeling and treatment criteria. The preferred alternative is to remove all juniper within 3 kilometers of occupied sage-grouse leks (breeding habitat areas where male sage-grouse gather each spring to perform courtship displays to attract and mate with females), all juniper in the early phases of encroachment (greater than 20 percent canopy cover), as well as 5-acre or smaller patches of later phases of juniper encroachment (less than 20 percent canopy cover) in riparian areas deemed important for sage-grouse in the focal treatment area. Old growth juniper trees, as identified in the Draft EIS, will not be removed during these treatments.

Proposed treatment methods include cutting juniper with handsaws or chainsaws, lopping with pruning shears, or using heavy equipment such as a track-hoe fitted with a grinding implement (masticator) or a shearing implement (large, powerful pruning shears). Juniper material (logs, branches, etc.) may be scattered on site and left, or the material may be jackpot-burned or piled and burned where scattering cut material is not feasible or desirable (e.g., where there would be too much material to scatter, or in riparian areas).

The focal treatment area includes approximately 47,000 acres of designated wilderness where only non-motorized hand tools would be used to cut juniper, which must be less than or equal to eight inches diameter at breast height, and access to treatment areas would be permitted on foot only. Juniper treatment in wilderness is included in the preferred alternative because 92 percent of the wilderness area (43,000 acres) is identified as a Priority Habitat Management Area for sage-grouse, and the remaining 8 percent (4,000 acres) is considered a General Habitat Management Area. Habitat management areas are delineated in the Record of Decision for the 2015 Greater Sage-Grouse Approved Resource Management Plan Amendments for Idaho and Southwest Montana. The BLM used the Minimum Requirements Decision Guide (MRDG) to ensure that juniper treatments in wilderness areas would produce the least disturbance possible (e.g., hand saws only, no vehicle travel off designated roads, foot traffic only, etc.).

The other alternatives analyzed in the draft EIS include the No Action alternative (i.e., present management would continue as usual and the project would not be implemented in any form) and an action alternative to treat juniper on approximately 553,000 acres within the project area boundary that excludes wilderness (i.e., juniper in the 47, 000 acres of designated wilderness would remain untreated).

Internal meetings and meetings with collaborators to discuss and develop the project proposal began in 2013. A 30-day public scoping period was held from January 20 to February 20, 2015 to aid the BLM in project development. The scoping period included public meetings held at the Boise District Office on February 4, 2015 and at the Owyhee County Historical Museum on February 5, 2015. Important issues identified during internal and public scoping and addressed in the document include effects to the following: wildlife habitat (especially sage-grouse and migratory birds), native plant communities, riparian areas and vegetation, soils, visual resources, spread of noxious weeds and invasive plants, wilderness values, recreation values, cultural resources, and social values.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Lara Douglas,
BLM Boise District Manager.

[FR Doc. 2016-28236 Filed 11-22-16; 8:45 am]

BILLING CODE 4310-GG-P